DEPARTMENT OF ENERGY

Federal Energy Regulatory Commission

Combined Notice of Filings

Take notice that the Commission has received the following Natural Gas Pipeline Rate and Refund Report filings:

Docket Numbers: RP19-1353-009.

Applicants: Northern Natural Gas Company.

Description: Report Filing: 20201030 Refund Report.

Filed Date: 10/29/20.

Accession Number: 20201029-5124.

Comments Due: 5 p.m. ET 11/10/20.

Docket Numbers: RP21-109-000.

Applicants: Tennessee Gas Pipeline Company, L.L.C.

Description: § 4(d) Rate Filing: Volume No. 2—Eversource SP98775 & SP330904 Neg Non-Conforming to be effective 11/1/2020.

Filed Date: 10/29/20.

Accession Number: 20201029-5000.

Comments Due: 5 p.m. ET 11/10/20.

Docket Numbers: RP21-110-000.

Applicants: Iroquois Gas Transmission System, L.P.

Description: § 4(d) Rate Filing: 102920 Negotiated Rates—Emera Energy Services, Inc. R-2715-43 to be effective 12/1/2020.

Filed Date: 10/29/20.

Accession Number: 20201029-5013.

Comments Due: 5 p.m. ET 11/10/20.

Docket Numbers: RP21-111-000.

Applicants: Iroquois Gas Transmission System, L.P.

Description: § 4(d) Rate Filing: 102920 Negotiated Rates—Emera Energy Services, Inc. R-2715-44 to be effective 12/1/2020.

Filed Date: 10/29/20.

Accession Number: 20201029-5014.

Comments Due: 5 p.m. ET 11/10/20.

Docket Numbers: RP21-112-000.

Applicants: Algonquin Gas Transmission, LLC.

Description: § 4(d) Rate Filing: Negotiated Rates—Con Ed 510371 Releases to be effective 11/1/2020.

Filed Date: 10/29/20.

Accession Number: 20201029-5023.

Comments Due: 5 p.m. ET 11/10/20.

Docket Numbers: RP21-113-000.

Applicants: El Paso Natural Gas Company, L.L.C.

Description: § 4(d) Rate Filing: Negotiated Rate Agreement Update (Upstream) to be effective 11/1/2020.

Filed Date: 10/29/20.

Accession Number: 20201029-5034.

Comments Due: 5 p.m. ET 11/10/20.

Docket Numbers: RP21-114-000.

Applicants: Dominion Energy Overthrust Pipeline, LLC.

Description: § 4(d) Rate Filing: Non-conforming TSAs—Wyoming Interstate Company to be effective 12/1/2020.

Filed Date: 10/29/20.

Accession Number: 20201029-5049.

Comments Due: 5 p.m. ET 11/10/20.

Docket Numbers: RP21-115-000.

Applicants: ANR Pipeline Company.

Description: § 4(d) Rate Filing: Conexus NRA Amendment to be effective 11/1/2020.

Filed Date: 10/29/20.

Accession Number: 20201029-5055.

Comments Due: 5 p.m. ET 11/10/20.

Docket Numbers: RP21-116-000.

Applicants: Great Lakes Gas Transmission Limited Partnership.

Description: § 4(d) Rate Filing: GLGT NRA FT18966 Amendment to be effective 11/1/2020.

Filed Date: 10/29/20.

Accession Number: 20201029-5056.

Comments Due: 5 p.m. ET 11/10/20.

Docket Numbers: RP21-117-000.

Applicants: Algonquin Gas Transmission, LLC.

Description: § 4(d) Rate Filing: Negotiated Rates—Bos Gas 510807 Releases eff 11-01-2020 to be effective 11/1/2020.

Filed Date: 10/29/20.

Accession Number: 20201029-5125.

Comments Due: 5 p.m. ET 11/10/20.

Docket Numbers: RP21-118-000.

Applicants: Algonquin Gas Transmission, LLC.

Description: § 4(d) Rate Filing: Negotiated Rates—PSEG 511047 Release to be effective 11/1/2020.

Filed Date: 10/29/20.

Accession Number: 20201029-5129.

Comments Due: 5 p.m. ET 11/10/20.

Docket Numbers: RP21-119-000.

Applicants: Algonquin Gas Transmission, LLC.

Description: § 4(d) Rate Filing: Negotiated Rates—Bos Gas 510798 Releases eff 11-01-2020 to be effective 11/1/2020.

Filed Date: 10/29/20.

Accession Number: 20201029-5148.

Comments Due: 5 p.m. ET 11/10/20.

Docket Numbers: RP21-120-000.

Applicants: Algonquin Gas Transmission, LLC.

Description: § 4(d) Rate Filing: Negotiated Rates—Eversource 510804 Releases eff 11-01-2020 to be effective 11/1/2020.

Filed Date: 10/29/20.

Accession Number: 20201029-5150.

Comments Due: 5 p.m. ET 11/10/20.

Docket Numbers: RP21-121-000.

Applicants: Algonquin Gas Transmission, LLC.

Description: § 4(d) Rate Filing: Negotiated Rates—Narra Releases 510985 eff 11-01-2020 to be effective 11/1/2020.

Filed Date: 10/29/20.

Accession Number: 20201029-5153.

Comments Due: 5 p.m. ET 11/10/20.

Docket Numbers: RP21-122-000.

Applicants: Algonquin Gas Transmission, LLC.

Description: § 4(d) Rate Filing: Negotiated Rates—Bos Gas 510365 Release eff 11-01-2020 to be effective 11/1/2020.

Filed Date: 10/29/20.

Accession Number: 20201029-5154.

Comments Due: 5 p.m. ET 11/10/20.

Docket Numbers: RP21-123-000.

Applicants: Transcontinental Gas Pipe Line Company, LLC.

Description: § 4(d) Rate Filing: Negotiated Rates—Cherokee AGL—Replacement Shippers—Nov 2020 to be effective 11/1/2020.

Filed Date: 10/29/20.

Accession Number: 20201029-5155.

Comments Due: 5 p.m. ET 11/10/20.

Docket Numbers: RP21-124-000.

Applicants: Texas Eastern Transmission, LP.

Description: § 4(d) Rate Filing: Negotiated Rates—ConEd 911704 Releases to be effective 11/1/2020.

Filed Date: 10/29/20.

Accession Number: 20201029-5184.

Comments Due: 5 p.m. ET 11/10/20.

Docket Numbers: RP21-125-000.

Applicants: Sierrita Gas Pipeline LLC.

Description: § 4(d) Rate Filing: Fuel and L&U Update to be effective 12/1/2020.

Filed Date: 10/29/20.

Accession Number: 20201029-5183.

Comments Due: 5 p.m. ET 11/10/20.

Docket Numbers: RP21-126-000.

Applicants: Algonquin Gas Transmission, LLC.

Description: § 4(d) Rate Filing: Negotiated Rates—Narra 510801 Releases eff 11-01-2020 to be effective 11/1/2020.

Filed Date: 10/29/20.

Accession Number: 20201029-5189.

Comments Due: 5 p.m. ET 11/10/20.

Docket Numbers: RP21-127-000.

Applicants: Algonquin Gas Transmission, LLC.

Description: § 4(d) Rate Filing: Negotiated Rates—Bos Gas 510366 Release eff 11-01-2020 to be effective 11/1/2020.

Filed Date: 10/29/20.

Accession Number: 20201029-5194.

Comments Due: 5 p.m. ET 11/10/20.

Docket Numbers: RP21-128-000.

Applicants: Texas Eastern Transmission, LP.

Description: § 4(d) Rate Filing: Negotiated Rates—ConEd 910950 Releases to be effective 11/1/2020.

Filed Date: 10/29/20.

Accession Number: 20201029-5195.

Comments Due: 5 p.m. ET 11/10/20.

Docket Numbers: RP21-129-000.

Applicants: NEXUS Gas Transmission, LLC.

Description: § 4(d) Rate Filing: Negotiated Rates—Various 11-1-2020 Releases to be effective 11/1/2020.

Filed Date: 10/29/20.

Accession Number: 20201029-5201.

Comments Due: 5 p.m. ET 11/10/20.

Docket Numbers: RP21-130-000.

Applicants: Transcontinental Gas Pipe Line Company, LLC.

Description: § 4(d) Rate Filing: Negotiated Rates—Southeastern Trail—Early In-Svc to be effective 11/1/2020.

Filed Date: 10/29/20.

Accession Number: 20201029-5205.

Comments Due: 5 p.m. ET 11/10/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 30, 2020.
Nathaniel J. Davis, Sr.,
Deputy Secretary.

[FR Doc. 2020-24547 Filed 11-4-20; 8:45 am]

BILLING CODE 6717-01-P